FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 010979-049.

Title: Caribbean Shipowners Association.

Parties: Bernuth Lines, Ltd.; CMA CGM, S.A.; Crowley Caribbean Services, LLC/Crowley Liner Services, Inc.; Seaboard Marine, Ltd.; Seafreight Line, Ltd.; and Zim Integrated Shipping Services, Ltd.

Filing Party: Wayne R. Rohde, Esq.; Sher and Blackwell; 1850 M Street NW., Suite 900; Washington, DC 20036.

Synopsis: The amendment removes Sea Star Line Caribbean, LLC as a party to the agreement.

Agreement No.: 011426-045.

Title: West Coast of South America Discussion Agreement.

Parties: A.P. Moller-Maersk A/S; APL Co. Pte Ltd.; Compania Chilena de Navigacion Interoceanica, S.A.; Compania Sud Americana de Vapores, S.A.; Frontier Liner Services, Inc.; Hamburg-Süd; King Ocean Services Limited, Inc.; Maruba S.C.A.; Mediterranean Shipping Company, SA; Seaboard Marine Ltd.; South Pacific Shipping Company, Ltd.; and Trinity Shipping Line.

Filing Party: Wayne R. Rohde, Esq.; Sher & Blackwell LLP; 1850 M Street, NW., Suite 900; Washington, DC 20036.

Synopsis: The amendment reflects Maersk's and MSC's participation in the Pacific Coast Section of the agreement.

Agreement No.: 011792-002.

Title: NYK/CSAV South America Space Charter Agreement.

Parties: Compania Sud Americana de Vapores S.A. and Nippon Yusen Kaisha.

Filing Party: Patricia M. O'Neill, Esq.; NYK Line (North America) Inc.; 300 Lighting Way, 5th Floor; Secaucus, NJ 07094.

Synopsis: The amendment would expand the scope to include ports in Venezuela, delete authority to agree on vessel features and schedules, delete authority to act as agent for each other in the agreement trade, and restate the agreement. Parties requested expedited review.

Agreement No.: 011882-003.

Title: Zim/COSCON Slot Charter Agreement.

Parties: Cosco Container Lines Co. Ltd. (COSCON) and Zim Integrated Shipping Services, Ltd.

Filing Party: Wayne R. Rohde, Esq.; Sher & Blackwell LLP; 1850 M Street, NW., Suite 900; Washington, DC 20036.

Synopsis: The amendment deletes references to COSCON's Mediterranean service, revises the space allocations of the parties on the other services, revises the definition of “vessel” to reflect that the parties can use space obtained from other carriers to fulfill their obligations under the agreement and restates the agreement.

Agreement No.: 011953-009.

Title: Florida Shipowners Group Agreement.

Parties: The member lines of the Caribbean Shipowners Association and the Florida-Bahamas Shipowners and Operators Association.

Filing Party: Wayne R. Rohde, Esq.; Sher & Blackwell, LLP; 1850 M Street, NW., Suite 900; Washington, DC 20036.

Synopsis: The amendment deletes Sea Star Caribbean Line, LLC and Atlantic Caribbean Line, Inc. from the underlying agreement parties.

Agreement No.: 012032-002.

Title: CMA CGM/MSC/Maersk Line North and Central China-US Pacific Coast Two-Loop Space Charter, Sailing and Cooperative Working Agreement.

Parties: A.P. Moller-Maersk A/S, CMA CGM S.A., and Mediterranean Shipping Company S.A.

Filing Party: Wayne R. Rohde, Esq.; Sher and Blackwell LLP; 1850 M Street, NW, Suite 900; Washington, DC 20036.

Synopsis: The amendment would revise the vessel contributions and space allocations under the agreement.

Agreement No.: 012061-001.

Title: CMA CGM/Maersk Line Space Charter, Sailing and Cooperative Working Agreement Western Mediterranean-U.S. East Coast.

Parties: CMA CGM, S.A. and A.P. Moller-Maersk A/S.

Filing Party: Wayne R. Rohde, Esq.; Sher and Blackwell LLP; 1850 M Street, NW., Suite 900; Washington, DC 20036.

Synopsis: The amendment revises the number and size of vessels to be deployed under the agreement and changes the corresponding space allocations of the parties.

Agreement No.: 012082.

Title: HSDG/CCNI Space Charter Agreement.

Parties: Compania Chilena de Navigacion Interoceanica S.A. (“CCNI”) and Hamburg-Sud.

Filing Parties: Wayne R. Rohde, Esq.; Sher & Blackwell LLP; 1850 M Street, NW., Suite 900; Washington, DC 20036.

Synopsis: The agreement would authorize Hamburg Sud to charter space to CCNI in the trade between the U.S. Gulf Coast and ports on the Caribbean coasts of Mexico and Colombia. The Parties request expedited review.

By Order of the Federal Maritime Commission.
Dated: September 25, 2009.
Tanga S. FitzGibbon,
Assistant Secretary.

[FR Doc. E9-23567 Filed 9-29-09; 8:45 am]

BILLING CODE 6730-01-P